LIBRARY OF CONGRESS

U.S. Copyright Office

37 CFR Parts 201 and 202

[Docket No. 2017-8]

Secure Tests: Extension of Comment Period

AGENCY: U.S. Copyright Office, Library of Congress.

ACTION: Interim rule with request for comments; extension of comment period.

SUMMARY: The U.S. Copyright Office is further extending the deadline for the submission of written comments in response to its June 12, 2017 and November 13, 2017 interim rules, regarding changes to the special procedure for examining secure tests, and the creation of a new group registration option for secure tests, respectively.

DATES: The comment period for the interim rules, published on June 12, 2017 (82 FR 26850), and November 13, 2017 (82 FR 52224), is extended by an additional sixty days. Comments must be made in writing and must be received in the U.S. Copyright Office no later than April 2, 2018.

ADDRESSES: For reasons of government efficiency, the Copyright Office is using the regulations.gov system for the submission and posting of public comments in this proceeding. All comments are therefore to be submitted electronically through regulations.gov. Specific instructions for submitting comments are available on the Copyright Office website at https://www.copyright.gov/rulemaking/securetests/. If electronic submission of comments is not feasible due to lack of access to a computer and/or the internet, please contact the Office for special instructions using the contact information below.

FOR FURTHER INFORMATION CONTACT: Robert J. Kasunic, Associate Register of Copyrights and Director of Registration Policy and Practice; Sarang Vijay Damle, General Counsel and Associate Register of Copyrights; Erik Bertin, Deputy Director of Registration Policy and Practice; or Kevin R. Amer, Senior Counsel for Policy and International Affairs, by telephone at 202-707-8040 or by email at rkas@loc.gov, sdam@loc.gov, ebertin@loc.gov, and kamer@loc.gov.

SUPPLEMENTARY INFORMATION: On June 12, 2017, the U.S. Copyright Office issued an interim rule memorializing its special procedures for examining secure texts.¹ On November 13, 2017, the Office issued an additional interim rule establishing a new group registration option for secure test questions.² The Office invited public comment on each of these interim rules, and previously extended its initial deadline for the submission of written comments.³ To ensure that members of the public have sufficient time to respond, and to ensure that the Office has the benefit of a complete record, the Office is further extending the submission deadline by an additional sixty days. Written comments now are due no later than April 2, 2018.

¹ 82 FR 26850 (June 12, 2017).

² 82 FR 52224 (Nov. 13, 2017).

³ 82 FR 56890 (Dec. 1, 2017).

Dated: January 9, 2018.
Sarang V. Damle,
General Counsel and Associate Register of Copyrights.

[FR Doc. 2018-00549 Filed 1-12-18; 8:45 am]

BILLING CODE 1410-30-P